DEPARTMENT OF LABOR

Employment and Training Administration

[TA-W-80,001]

Mercer (US), Inc., a Subsidiary of Mercer LLC, a Subsidiary of Mercer, Inc., a Subsidiary of Marsh & Mclennan Companies, Inc., National Accounting Center Department, Chicago, IL; Notice of Negative Determination Regarding Application for Reconsideration

By application received July 22, 2011, a worker requested administrative reconsideration of the negative determination regarding workers' eligibility to apply for Trade Adjustment Assistance (TAA) applicable to workers and former workers Mercer (US), Inc., a subsidiary of Mercer LLC, a subsidiary of Mercer, Inc., a subsidiary of Marsh & McLennan Companies, Inc., National Accounting Center Department (NAC), Chicago, Illinois (Mercer (US), Inc., National Accounting Center Department). The negative determination was issued on June 3, 2011. The Department's Notice of determination was published in the Federal Register on June 17, 2011 (76 FR 35476). The workers of Mercer (US) Inc., National Accounting Center Department are engaged in activities related to the supply of commission and cash receipt processing services.

The petition was filed on behalf of “national accounting center” workers at Mercer (US), Inc., Chicago, Illinois. The petition states that Mercer (US), Inc. “shifted production to India.”

The negative determination was based on the Department's findings that Mercer (US), Inc. does not produce an article within the meaning of Section 222(a) or Section 222(b) of the Act. In order to be considered eligible to apply for adjustment assistance under Section 223 of the Trade Act of 1974, the worker group seeking certification (or on whose behalf certification is being sought) must work for a “firm” or appropriate subdivision that produces an article.

In the request for reconsideration, the petitioner asserts that subject worker group separations were due to a shift to India and stated that other similar firms have employed worker groups eligible to apply for TAA.

The determinations referenced in the request for reconsideration are March USA, Inc., NA Controllership Division, Chicago, Illinois, and HSBC Bank USA, Trade and Supply Chain Department, Brooklyn, New York (TA-W-71,889 issued on October 28, 2009; and TA-W-73,191 issued on May 17, 2011 respectively).

Workers covered by TA-W-71,889 and TA-W-73,191 were eligible to apply for worker adjustment assistance because the worker group eligibility requirements of the Trade and Globalization Adjustment Assistance Act of 2009 (Trade Act of 2009) was satisfied.

Pursuant to 29 CFR 90.18(c), administrative reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

After the Trade Act of 2009 expired in February 2011, petitions for TAA were instituted under the Trade Adjustment Assistance Reform Act of 2002 (Trade Act of 2002). Therefore, the statute applicable to TA-W-80,001 is the Trade Act of 2002. The applicable regulation is codified in 29 CFR Part 90, Subpart B.

Section 222 of the Trade Act of 2002 establishes the worker group eligibility requirements. The requirements include either “imports of articles like or directly competitive with articles produced by such firm or subdivision have increased” or “a shift in production by such workers' firm or subdivision to a foreign country of articles like or directly competitive with articles which are produced by such firm or subdivision.”

The request for reconsideration asserts that “the situation/circumstances/duties under petition #80001 are similar in some instances and exactly the same in others” to those of TA-W-71,889 and TA-W-73,191.

The certifications for TA-W-71,889 and TA-W-73,191 were issued based on the Department's findings that the workers' firm supplied a service and that the supply of services was shifted/acquired from a foreign country. The shift/acquisition of services that was the basis for certification under the Trade Act of 2009 cannot be the basis for certification under the Trade Act of 2002 because the two statutes have different worker group eligibility criteria.

After careful review of the request for reconsideration, previously submitted materials, the applicable statute, and relevant regulation, the Department determines that there is no new information, mistake in fact, or misinterpretation of the facts or of the law.

Conclusion

After review of the application and investigative findings, I conclude that there has been no error or misinterpretation of the law or of the facts which would justify reconsideration of the Department of Labor's prior decision. Accordingly, the application is denied.

Signed at Washington, DC, this 28th day of September 2011.
Del Min Amy Chen,
Certifying Officer, Office of Trade Adjustment Assistance.

[FR Doc. 2011-25719 Filed 10-4-11; 8:45 am]

BILLING CODE 4510-FN-P